DEPARTMENT OF COMMERCE

National Oceanic and Atmospheric Administration

Oceanic and Atmospheric Research; National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice on the National Sea Grant College Program in the areas of program evaluation, strategic planning, education and extension, science and technology programs, and other matters as described below.

DATES: The announced meeting is scheduled for: February 21-22, 2007.

ADDRESSES: Headquarters of the Consortium for Oceanographic Research & Education (CORE), 1201 New York Avenue, NW., 4th Floor Conference Room, Washington, DC 20005.

FOR FURTHER INFORMATION CONTACT: Mr. Joseph Brown, National Sea Grant College Program, National Oceanic and Atmospheric Administration, 1315 East-West Highway, Room 11717, Silver Spring, Maryland 20910, (301) 734-1088.

SUPPLEMENTARY INFORMATION: The Panel, which consists of a balanced representation from academia, industry, state government and citizens groups, was established in 1976 by Section 209 of the Sea Grant Improvement Act (Pub. L. 94-461, 33 U.S.C. 1128). The Panel advises the Secretary of Commerce and the Director of the National Sea Grant College Program with respect to operations under the Act, and such other matters as the Secretary refers to them for review and advice.

A link to the agenda for the meeting can be found on the web at http://www.seagrant.noaa.gov/leadership/review_panel.html.

If you do not have access to the internet, please contact Joe Brown at the address above for a hard copy.

This meeting will be open to the public.

Dated: January 16, 2007.
Mark E. Brown,
Chief Financial Officer, Oceanic and Atmospheric Research, National Oceanic and Atmospheric Administration.

[FR Doc. E7-848 Filed 1-22-07; 8:45 am]

BILLING CODE 3510-KA-P